DEPARTMENT OF TRANSPORTATION

National Highway Traffic Safety Administration

Reports, Forms and Recordkeeping Requirements Agency Information Collection Activity Under OMB Review

AGENCY: National Highway Traffic Safety Administration (NHTSA), U.S. Department of Transportation.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on December 28, 2005 [70 FR 76909].

DATES: Comments must be submitted on or before May 8, 2006.

FOR FURTHER INFORMATION CONTACT: Mr. Donovan Green, NHTSA Office of Crash Avoidance Standards, 400 Seventh Street, SW., Room 5307, NVS-122, Washington, DC 20590. Mr. Green's telephone number is (202) 493-0248. His fax number is (202) 493-2739.

SUPPLEMENTARY INFORMATION:

National Highway Traffic Safety Administration

Title: Tires Identification and Recordkeeping.

OMB Control Number: 2127-0050.

Type of Request: Extension of a currently approved collection.

Abstract: Each tire manufacturer and rim manufacturer must label their tire or rim with the applicable safety information. These labeling requirements ensure tires are mounted on the vehicles for which they are intended. It is estimated that this rule affects 10 million respondents annually. This group consists of approximately 8 tire manufacturers, 12,000 new tire dealers and distributors, and 10 million consumers who choose to register their tire purchases with the manufacturers.

Affected Public: Tire and rim manufacturers, new tire dealers and distributors, and consumers.

Estimated Total Annual Burden: 250,000 hours.

Estimated Number of Respondents: 10,000,000.

Comments Are Invited On

• Whether the proposed collection of information is necessary for the proper performance of the functions of the Department, including whether the information will have practical utility.

• Whether the Department's estimate for the burden of the proposed information collection is accurate.

• Ways to minimize the burden of the collection of information on respondents, including the use of automated collection techniques or other forms of information technology.

A comment to OMB is most effective if OMB receives it within 30 days of publication.

Issued on: April 3, 2006.
Stephen R. Kratzke,
Associate Administrator for Rulemaking.

[FR Doc. E6-5049 Filed 4-6-06; 8:45 am]

BILLING CODE 4910-59-P